DEPARTMENT OF AGRICULTURE

Forest Service

Notice of Proposed New Fee Site; Federal Lands Recreation Enhancement Act

AGENCY: Forest Service, USDA.

ACTION: Notice of proposed fee increase on Christmas tree permits.

SUMMARY: The Sawtooth National Forest is proposing to increase the fee for Christmas tree permits from $5.00 to $10.00 per tag. The fee is proposed and will be determined upon further analysis and public comment. Funds from fees would be used for the continued operation, visitor services, maps, and law enforcement while issuing and enforcing Christmas tree permits.

DATES: Comments will be accepted through May 30, 2015. Increased fees would begin November 2015 for Christmas tree permits.

ADDRESSES: Kit Mullen, Forest Supervisor, Sawtooth National Forest, 2647 Kimberly Road East, Twin Falls, Idaho 83301.

FOR FURTHER INFORMATION CONTACT: Jennifer Blake, Recreation Fee Coordinator, by phone at 208-737-3216 or via email at jenniferblake@fs.fed.us. Information about proposed fee changes can also be found on the Sawtooth National Forest Web site: http://www.fs.usda.gov/sawtooth.

Individuals who use telecommunication devices for the deaf (TDD) may call the Federal Information Relay Service (FIRS) at 1-800-877-8339 between 8:00 a.m. and 8:00 p.m., Eastern Standard Time, Monday through Friday.

SUPPLEMENTARY INFORMATION: The Federal Recreation Lands Enhancement Act (Title VII, Pub. L. 108-447) directed the Secretary of Agriculture to publish a six month advance notice in the Federal Register whenever new recreation fee areas are established.

Once public involvement is complete, the fee increases will be reviewed by a Recreation Resource Advisory Committee prior to a final decision and implementation.

Dated: February 18, 2015.
Jennifer Blake,
Acting Forest Supervisor.

[FR Doc. 2015-03725 Filed 2-24-15; 8:45 am]

BILLING CODE 3410-11-P